DEPARTMENT OF ENERGY

Federal Energy Regulatory Commission

[Project No. 13226-001; Project No. 13368-001]

Blue Heron Hydro, LLC; Notice of Intent To File License Application, Filing of Pre-Application Document, and Approval of Use of the Traditional Licensing Process

October 23, 2009.

a. Type of Filing: Notice of Intent to File License Application and Request to Use the Traditional Licensing Process.

b. Project Nos.: 13226-001 and 13368-001.

c. Dated Filed: July 10, 2009.

d. Submitted by: Blue Heron Hydro, LLC.

e. Name of Projects: Ball Mountain Dam Hydroelectric Project; Townshend Dam Hydroelectric Project.

f. Location: The Ball Mountain Dam Hydrolectric Project would be located on the U.S. Army Corps of Engineers Ball Mountain Dam on the West River, northwest of the Town of Jamaica, Windham County, Vermont. The project will occupy less than an acre of federal land. The Townshend Dam Hydroelectric Project would be located on the U.S. Army Corps of Engineers Townshend Dam on the West River in the Town of Townshend, Windham County, Vermont. The project will occupy less than an acre of Federal land.

g. Filed Pursuant to: 18 CFR 5.3 of the Commission's regulations.

h. Applicant Contact: Lori Barg, Blue Heron Hydro, LLC, 113 Bartlett Road, Plainfield, VT 05667, (802) 454-1874.

i. FERC Contact: Dr. Nicholas Palso, (202) 502-68854 or nicholas.palso@ferc.gov.

j. Blue Heron Hydro, LLC filed its requests to use the Traditional Licensing Process on July 10, 2009. Blue Heron Hydro, LLC filed public notice of its requests on August 10, 2009. In a letter dated October 22, 2009, the Director of the Office of Energy Projects approved Blue Heron Hydro, LLC's request to use the Traditional Licensing Process.

k. With this notice, we are approving Blue Heron Hydro, LLC's requests to be designated as the non-Federal representative for section 7 of the Endangered Species Act and its request to initiate consultation under section 106 of the National Historic Preservation Act; and recommending that it begin informal consultation with: (a) The U.S. Fish and Wildlife Service; and (b) the Vermont State Historic Preservation Officer, as required by section 106, National Historical Preservation Act, and the implementing regulations of the Advisory Council on Historic Preservation at 36 CFR 800.2.

l. Blue Heron Hydro, LLC filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, of for TTY, (202) 502-8659. A copy is also available for inspection and reproduction at the address in paragraph h.

Register online at http://ferc.gov/docs-filing/esubscription.asp to be notified via e-mail of new filing and issuances related to this or other pending projects. For assistance, contact FERC Online Support.

Kimberly D. Bose,
Secretary.

[FR Doc. E9-26241 Filed 10-30-09; 8:45 am]

BILLING CODE 6717-01-P